DEPARTMENT OF ENERGY

Federal Energy Regulatory Commission

[Project No. P-2082-027]

Klamath Hydroelectric Project; Notice Of Meetings

November 24, 2004.

The Commission is scheduled to meet with representatives of the Quartz Valley Indian Community and the Resighini Rancheria regarding the Klamath Hydroelectric Project relicensing. Meetings will be held with those tribes at the locations and times listed below:

Quartz Valley Indian Community, 13601 Quartz Valley Road, Fort Jones, California, December 15, 2004, 2 p.m. (P.s.t.);

Resighini Rancheria, 158 Klamath Beach Road, Klamath, California, December 16, 2004, 10 a.m. (P.s.t.).

Members of the public and intervenors in the referenced proceedings may attend these meetings; however, participation will be limited to tribal representatives and the Commission representatives. If the Tribes decide to disclose information about a specific location which could create a risk or harm to an archeological site or Native American cultural resource, the public will be excused for that portion of the meeting when such information is disclosed.¹ If you plan to attend any of these meetings, please contact John Mudre at the Federal Energy Regulatory Commission at 202-502-8902 or john.mudre@ferc.gov. The meetings will be transcribed by a court reporter, and public transcripts will be made available by the Commission following the meetings.

¹ Protection from public disclosure involving this kind of specific information is based upon 18 CFR § 4.32(b)(3)(ii) of the Commission's regulations implementing the Federal Power Act.

Magalie R. Salas,
Secretary.

[FR Doc. E4-3429 Filed 12-1-04; 8:45 am]

BILLING CODE 6717-01-P